DEPARTMENT OF THE INTERIOR

Fish and Wildlife Service

50 CFR Part 17

RIN 1018-AJ12

Endangered and Threatened Wildlife and Plants; Proposed Designation of Critical Habitat for the Jarbidge River, Coastal-Puget Sound, and Saint Mary-Belly River Populations of Bull Trout

Correction

In proposed rule document 04-14014 beginning on page 35768 in the issue of Friday, June 25, 2004 make the following correction:

§ 17.95 [Corrected]

On page 35805, in § 17.95(e), after the graphic, add the following text:

“(32) Unit 27-Olympic Peninsula River Basins:

(i) Skokomish Critical Habitat Subunit Descriptions:”.

[FR Doc. C4-14014 Filed 7-16-04; 8:45 am]

BILLING CODE 1505-01-D